DEPARTMENT OF ENERGY

Federal Energy Regulatory Commission

[Docket No. EG02-35-000, et al.]

Bluegrass Generation Company, L.L.C., et al.; Electric Rate and Corporate Regulation Filings

November 29, 2001.

Take notice that the following filings have been made with the Commission:

1. Bluegrass Generation Company, L.L.C.

[Docket No. EG02-35-000]

Take notice that on November 26, 2001, Bluegrass Generation Company, L.L.C., 1000 Louisiana, Suite 5800, Houston, Texas filed with the Federal Energy Regulatory Commission (Commission) an application for determination of exempt wholesale generator status pursuant to part 365 of the Commission's regulations.

Comment date: December 20, 2001, in accordance with Standard Paragraph E at the end of this notice. The Commission will limit its consideration of comments to those that concern the adequacy or accuracy of the application.

2. Foothills Generating, L.L.C.

[Docket No. EG02-36-000]

Take notice that on November 26, 2001, Foothills Generating, L.L.C., 1000 Louisiana, Suite 5800, Houston, Texas filed with the Federal Energy Regulatory Commission (Commission) an application for determination of exempt wholesale generator status pursuant to part 365 of the Commission's regulations.

Comment date: December 20, 2001, in accordance with Standard Paragraph E at the end of this notice. The Commission will limit its consideration of comments to those that concern the adequacy or accuracy of the application.

3. Renaissance Power, L.L.C.

[Docket No. EG02-37-000]

Take notice that on November 26, 2001, Renaissance Power, L.L.C., 1000 Louisiana, Suite 5800, Houston, Texas filed with the Federal Energy Regulatory Commission (Commission) an application for determination of exempt wholesale generator status pursuant to part 365 of the Commission's regulations.

Comment date: December 20, 2001, in accordance with Standard Paragraph E at the end of this notice. The Commission will limit its consideration of comments to those that concern the adequacy or accuracy of the application.

4. Rolling Hills Generating, L.L.C.

[Docket No. EG02-38-000]

Take notice that on November 26, 2001, Rolling Hills Generating, L.L.C., 1000 Louisiana, Suite 5800, Houston, Texas filed with the Federal Energy Regulatory Commission (Commission) an application for determination of exempt wholesale generator status pursuant to part 365 of the Commission's regulations.

Comment date: December 20, 2001, in accordance with Standard Paragraph E at the end of this notice. The Commission will limit its consideration of comments to those that concern the adequacy or accuracy of the application.

5. Duke Energy Corporation

[Docket No. ER01-1616-005]

Take notice that on November 26, 2001, Duke Energy Corporation tendered for filing with the Federal Energy Regulatory Commission (Commission) its compliance filing in the above-captioned docket pursuant to the Commission's November 7, 2001 order in Docket Nos. ER01-1616-000, et al.

Comment date: December 20, 2001, in accordance with Standard Paragraph E at the end of this notice.

6. New York Independent System Operator, Inc.

[Docket No. ER01-3001-001]

Take notice that on November 26, 2001 the New York Independent System Operator, Inc. (NYISO) filed a compliance filing in the above-captioned proceedings. The NYISO was required to submit this compliance filing pursuant to New York Independent System Operator, Inc., 97 FERC ¶61,095 (October 25, 2001).

A copy of this filing was served upon all persons designated on the official service list compiled by the Secretary in Docket No. ER01-3001-000.

Comment date: December 20, 2001, in accordance with Standard Paragraph E at the end of this notice.

7. American Electric Power Service Corporation

[Docket No. ER01-3026-002]

Take notice that on November 26, 2001, American Electric Power Service Corporation (AEPSC) tendered for filing with the Federal Energy Regulatory Commission (Commission) the Amended Facilities Agreement between Ohio Power Company and Fremont Energy Center LLC. The agreement is pursuant to the AEP Companies' Open Access Transmission Service Tariff (OATT) that has been designated as the Operating Companies of the American Electric Power System FERC Electric Tariff Revised Volume No. 6, effective June 15, 2000.

AEP requests an effective date of November 6, 2001.

A copy of the filing was served upon the Ohio Public Utilities Commission.

Comment date: December 20, 2001, in accordance with Standard Paragraph E at the end of this notice.

8. PPL Electric Utilities Corporation

[Docket No. ER02-128-002]

Take notice that on November 26, 2001, PPL Electric Utilities Corporation (PPL Electric) and Williams Generation Company—Hazleton (WGC) filed with the Commission revisions to the Interconnection Agreement originally filed with the Commission on October 18, 2001 and supplemented on October 23, 2001.

PPL Electric and WGC request an effective date of October 19, 2001 for the Interconnection Agreement, as revised.

PPL Electric and WGC also enclose a form of cancellation designated in accordance with Order No. 614, to cancel the interconnection agreement that will be superceded by the Interconnection Agreement submitted in this docket.

Comment date: December 20, 2001, in accordance with Standard Paragraph E at the end of this notice.

9. The Dayton Power and Light Company

[Docket No. ER02-403-000]

Take notice that on November 26, 2001, The Dayton Power and Light Company (Dayton) submitted service agreements establishing Dominion Nuclear Marketing II, Inc. as a customer under the terms of Dayton's Open Access Transmission Tariff.

Dayton requests an effective date of one day subsequent to this filing for the service agreements.

Copies of this filing were served upon Dominion Nuclear Marketing II, Inc. and the Public Utilities Commission of Ohio.

Comment date: December 20, 2001, in accordance with Standard Paragraph E at the end of this notice.

10. The Dayton Power and Light Company

[Docket No. ER02-404-000]

Take notice that on November 26, 2001, The Dayton Power and Light Company (Dayton) submitted service agreements establishing with Dominion Nuclear Marketing II, Inc. as a customer under the terms of Dayton's Open Access Transmission Tariff.

Dayton requests an effective date of one day subsequent to this filing for the service agreements.

Copies of this filing were served upon with Dominion Nuclear Marketing II, Inc. and the Public Utilities Commission of Ohio.

Comment date: December 20, 2001, in accordance with Standard Paragraph E at the end of this notice.

11. Entergy Services, Inc.

[Docket No. ER02-405-000]

Take notice that on November 26, 2001, Entergy Services, Inc., on behalf of Entergy Mississippi, Inc., tendered for filing an unexecuted, amended and restated Interconnection and Operating Agreement with Duke Energy Hinds, LLC (Duke Hinds), and an updated Generator Imbalance Agreement with Duke Hinds (the First Revised Interconnection Agreement). Duke Hinds objects to certain aspects of the First Revised Agreement, including Duke Hinds' cost responsibility for the interconnection facilities necessary for the physical interconnection of the Duke Hinds Facility to Entergy's transmission system.

Comment date: December 20, 2001, in accordance with Standard Paragraph E at the end of this notice.

12. TransÉnergie U.S. Ltd., Hydro One Delivery Services Inc.

[Docket No. ER02-406-000]

Take notice that on November 26, 2001, TransÉnergie U.S. Ltd. (TEUS) and Hydro One Delivery Services Inc. (Hydro One Delivery), on behalf of their to-be-formed project development subsidiary, LELCO, submitted for filing, pursuant to section 205 of the Federal Power Act, an application requesting that the Commission (1) grant LELCO blanket authority to make sales of transmission rights at negotiated rates, and (2) grant certain waivers, in connection with their proposed Lake Erie Link transmission interconnector project.

Comment date: December 20, 2001, in accordance with Standard Paragraph E at the end of this notice.

13. Geysers Power Company, LLC

[Docket No. ER02-407-000]

Take notice that on November 26, 2001, Geysers Power Company, LLC (Geysers Power), tendered for filing its updated Rate Schedules for the calendar year 2002 for Reliability Must-Run services provided to the California Independent System Operator Corporation (CAISO) pursuant to the Geysers RMR Agreement for Units 13 and 16. This filing is being made in response to the ISO's designation of Geysers Unit 16 as a Reliability Must-Run (RMR) Unit for calendar year 2002 in order to (i) provide required annual updates of the contract service limits, monthly options payments and start-up costs for the Geysers Units 13 and 16 governed by the RMR Agreement; (ii) set new rates reflecting the revisions to the Annual Fixed Revenue Requirement in accordance with Schedule F of the RMR Agreement; (iii) revise the RMR Agreement in accordance with a settlement agreement reached in 1999 among various RMR parties; and (iv) comply with Order No. 614, 90 FERC ¶61,352 (2000).

Copies of this filing have been served upon the CAISO and Pacific Gas and Electric Company.

Comment date: December 17, 2001, in accordance with Standard Paragraph E at the end of this notice.

14. PPL Electric Utilities Corporation

[Docket No. ES02-8-000]

Take notice that on November 13, 2001, PPL Electric Utilities Corporation submitted an application pursuant to section 204 of the Federal Power Act seeking authorization to issue promissory notes and other evidences of secured and unsecured short-term indebtedness through December 31, 2003, in an amount not to exceed $1 billion at any one time.

Comment date: December 17, 2001, in accordance with Standard Paragraph E at the end of this notice.

15. UtiliCorp United Inc.

[Docket No. ES02-9-000]

Take notice that on November 14, 2001, UtiliCorp United Inc. submitted an application pursuant to section 204 of the Federal Power Act seeking authorization to issue, from time to time, up to and including $500 million, in the aggregate at any one time outstanding, of short-term notes and other evidences of indebtedness, including guarantees of securities issued by subsidiaries or affiliates.

Comment date: December 14, 2001, in accordance with Standard Paragraph E at the end of this notice.

16. UtiliCorp United Inc.

[Docket No. ES02-10-000]

Take notice that on November 15, 2001, UtiliCorp United Inc. (UtiliCorp) submitted an application pursuant to section 204 of the Federal Power Act seeking authorization to issue to issue UtiliCorp Common Stock shares in an Exchange Offer pursuant to which the public shareholders of Aquila will receive a determined number of shares of UtiliCorp Common Stock.

UtiliCorp also requests an exemption from the Commission's competitive bidding and negotiated placement requirements at 18 CFR 34.2.

Comment date: December 14, 2001, in accordance with Standard Paragraph E at the end of this notice.

17. UtiliCorp United Inc.

[Docket No. ES02-11-000]

Take notice that on November 9, 2001, UtiliCorp United Inc. submitted an application pursuant to section 204 of the Federal Power Act seeking authorization to issue, from time to time, up to and including $500 million, in the aggregate at any one time outstanding, of short-term notes and other evidences of indebtedness, including guarantees of securities issued by subsidiaries or affiliates.

Comment date: December 11, 2001, in accordance with Standard Paragraph E at the end of this notice.

18. Soyland Power Cooperative Inc.

[Docket No. ES02-12-000]

Take notice that on November 10, 2001, Soyland Power Cooperative Inc. (Soyland) submitted an application pursuant to section 204 of the Federal Power Act seeking authorization to issue up to and including $12 million of long-term debt.

Soyland also requests a waiver from the Commission's competitive bidding and negotiated placement requirements at 18 CFR 34.2.

Comment date: December 14, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30217 Filed 12-5-01; 8:45 am]

BILLING CODE 6717-01-P